DEPARTMENT OF HOMELAND SECURITY

Federal Emergency Management Agency

[Docket ID: FEMA-2024-0013; OMB No. 1660-NW150]

Agency Information Collection Activities: Proposed Collection; Comment Request; Generic Clearance for Information Sharing Agreements Involving Personal Identifiable Information and Sensitive Personal Identifiable Information

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the Paperwork Reduction Act of 1995, this notice seeks comments concerning FEMA's sharing of information that includes personally identifiable information (PII) and sensitive personally identifiable information (SPII) of disaster survivors.

DATES: Comments must be submitted on or before June 10, 2024.

ADDRESSES: To avoid duplicate submissions to the docket, please submit comments at http://www.regulations.gov under Docket ID FEMA-2024-0013. Follow the instructions for submitting comments.

All submissions received must include the agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Audrey Carter, Government Information Specialist, FEMA, at 202-288-6421 or audrey.carter@fema.dhs.gov. You may contact the Information Management Division for copies of the proposed collection of information at email address: FEMA-Information-Collections-Management@fema.dhs.gov.

SUPPLEMENTARY INFORMATION: The Privacy Act of 1974 (Pub. L. 93-579, as amended) (5 U.S.C. 552a) establishes a Code of Fair Information Practice that governs the collection, maintenance, use, and dissemination of personally identifiable information about individuals that is maintained in systems of records by Federal Agencies.

The E-Government Act of 2002 (Pub. L. 107-347) (5 U.S.C. chapter 37; 44 U.S.C. 3501-3606) improves the management and promotion of electronic government services and processes by establishing a Federal Chief Information Officer within the Office of Management and Budget (OMB), and by establishing a framework of measures that require using internet-based information technology to improve citizen access to government information and services, and for other purposes.

The Robert T. Stafford Disaster Relief and Emergency Assistance Act (Pub. L. 93-288, as amended), 42 U.S.C. 5121-5207 (“Stafford Act”) provides broad authority to the Federal Emergency Management Agency (FEMA) to carry out its mission of helping people before, during, and after disasters. FEMA shares information, to include PII and SPII, to meet the Agency's mission to: “reduce the loss of life and property and protect our institutions from all hazards by leading and supporting the nation in a comprehensive, risk-based emergency management program of mitigation, preparedness, response, and recovery.” As part of responding to requests to share information, FEMA engages in an interactive process with entities to determine the validity and scope of their data sharing request.

FEMA is creating this generic information collection to document the instruments FEMA uses to outline contractual sharing of protected information with external partners in disaster and non-disaster environments. This generic information collection will ensure all OMB-approved expiration dates are aligned across FEMA's Privacy Division and will also allow FEMA to update individual instruments as sub-collections under this generic instead of revising entire information collections and analyze individual instruments for burden reduction.

Collection of Information

Title: Generic Clearance for Information Sharing Agreements Involving Personal Identifiable Information and Sensitive Personal Identifiable Information.

Type of Information Collection: New information collection.

OMB Number: 1660-NW150.

FEMA Forms: Not applicable.

Abstract: The Federal Emergency Management Agency (FEMA) must collect information for points of contact within state, local, territorial, and Tribal governments, as well as the purpose, need, and authority for the personally identifiable information, to initiate legal agreements. Once finalized, these legal agreements permit sharing of disaster survivors' and insurance policyholders' data for response and mitigation efforts.

Affected Public: State, local or Tribal governments.

Estimated Number of Respondents: 817.

Estimated Number of Responses: 841.

Estimated Total Annual Burden Hours: 841.

Estimated Total Annual Respondent Cost: $46,238.

Estimated Respondents' Operation and Maintenance Costs: $0.

Estimated Respondents' Capital and Start-Up Costs: $0.

Estimated Total Annual Cost to the Federal Government: $100,240.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-07659 Filed 4-10-24; 8:45 am]

BILLING CODE 9111-19-P